DEPARTMENT OF HEALTH AND HUMAN SERVICES

Centers for Disease Control and Prevention

[60Day-07-07AC]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research to Inform the Routine HIV Testing for gynecologists providing primary care services and Prevention Is Care (PIC) Social Marketing Campaigns—New—National Center for HIV/AIDS, Viral Hepatitis, STD, and TB Prevention (NCHHSTP)[Proposed], Coordinating Center for Infectious Diseases (CCID), Centers for Disease Control and Prevention (CDC).

Background and Brief Description

This project involves formative research to inform the development of two Centers for Disease Control and Prevention (CDC)-sponsored social marketing campaigns: Social Marketing Campaign to Make HIV Testing a Routine Part of Medical Care for Gynecologists Providing Primary Care Services (Routine HIV Testing), and Prevention Is Care (PIC). The goal of the Routine HIV Testing Campaign is to increase HIV testing rates among women seeking gynecological primary care services and the objective of the campaign is to make HIV testing a routine part of primary care provided by obstetrician/gynecologists (OB/GYN). PIC entails encouraging primary care physicians (PCP) and Infectious Disease Specialists who deliver care to patients living with HIV and screen them for HIV transmission behaviors and deliver brief messages on the importance of protecting themselves and others by reducing their risky behaviors. The long-term objective of the campaign is to establish PIC as the standard of care for persons living with HIV. The study entails conducting focus groups and interviews to test creative materials with a sample of Obstetrician/Gynecologists (OB/GYN) for Routine HIV Testing and with PCP and Infectious Disease Specialists for PIC. Findings from this study will be used by CDC and its partners to inform current and future program activities.

For Routine HIV Testing, we expect a total of 81 physicians to be screened for eligibility. Of the 81 physicians who are screened, we expect that 27 will participate in a focus group and 27 will participate in an interview.

For PIC, we expect a total of 162 physicians to be screened for eligibility. Of the 162 physicians who are screened, we expect that 54 will participate in a focus group and 54 will participate in an interview. There are no costs to the respondents other than their time.

Estimate of Annualized Burden Hours

Respondents | Number of respondents | Responses per respondent | Average burden per response (in hours) | Total burden hours
Routine HIV Testing Screener | 81 | 1 | 10/60 | 14
Routine HIV Testing Focus Group | 27 | 1 | 2 | 54
Routine HIV Testing Interview | 27 | 1 | 1 | 27
PIC Screener | 162 | 1 | 10/60 | 27
PIC Focus Group | 54 | 1 | 2 | 108
PIC Interview | 54 | 1 | 1 | 54
Total |  |  |  | 284

Dated: December 6, 2006.
Joan F. Karr,
Acting Reports Clearance Officer, Centers for Disease Control and Prevention.

[FR Doc. E6-21124 Filed 12-11-06; 8:45 am]

BILLING CODE 4163-18-P